DEPARTMENT OF ENERGY

Federal Energy Regulatory Commission

Combined Notice of Filings

Take notice that the Commission has received the following Natural Gas Pipeline Rate and Refund Report filings:

Filings Instituting Proceedings

Docket Numbers: RP22-911-000.

Applicants: Columbia Gas Transmission, LLC.

Description: § 4(d) Rate Filing: MU Mktg LLC—Replacement Contract NR_264875 to be effective 6/1/2022.

Filed Date: 5/6/22.

Accession Number: 20220506-5110.

Comment Date: 5 p.m. ET 5/18/22.

Docket Numbers: RP22-912-000.

Applicants: Columbia Gas Transmission, LLC.

Description: § 4(d) Rate Filing: System Map URL Link and Contact Update to be effective 6/6/2022.

Filed Date: 5/6/22.

Accession Number: 20220506-5133.

Comment Date: 5 p.m. ET 5/18/22.

Docket Numbers: RP22-913-000.

Applicants: Columbia Gulf Transmission, LLC.

Description: § 4(d) Rate Filing: Housekeeping—System Map URL and Contact to be effective 6/6/2022.

Filed Date: 5/6/22.

Accession Number: 20220506-5135.

Comment Date: 5 p.m. ET 5/18/22.

Docket Numbers: RP22-914-000.

Applicants: Crossroads Pipeline Company.

Description: § 4(d) Rate Filing: Housekeeping—System Map URL and Contact to be effective 6/6/2022.

Filed Date: 5/6/22.

Accession Number: 20220506-5137.

Comment Date: 5 p.m. ET 5/18/22.

Docket Numbers: RP22-915-000.

Applicants: Hardy Storage Company, LLC.

Description: § 4(d) Rate Filing: Housekeeping—System Map URL & Contact to be effective 6/6/2022.

Filed Date: 5/6/22.

Accession Number: 20220506-5141.

Comment Date: 5 p.m. ET 5/18/22.

Docket Numbers: RP22-916-000.

Applicants: Portland Natural Gas Transmission System.

Description: § 4(d) Rate Filing: Housekeeping—System Map URL and Contact to be effective 6/6/2022.

Filed Date: 5/6/22.

Accession Number: 20220506-5143.

Comment Date: 5 p.m. ET 5/18/22.

Docket Numbers: RP22-917-000.

Applicants: Northern Border Pipeline Company.

Description: § 4(d) Rate Filing: Housekeeping—System Map URL and Contact to be effective 6/6/2022.

Filed Date: 5/6/22.

Accession Number: 20220506-5146.

Comment Date: 5 p.m. ET 5/18/22.

Docket Numbers: RP22-918-000.

Applicants: Bison Pipeline LLC.

Description: § 4(d) Rate Filing: Housekeeping—System Map URL and Contact to be effective 6/6/2022.

Filed Date: 5/6/22.

Accession Number: 20220506-5148.

Comment Date: 5 p.m. ET 5/18/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2022.
Debbie-Anne A. Reese,
Deputy Secretary.

[FR Doc. 2022-10344 Filed 5-12-22; 8:45 am]

BILLING CODE 6717-01-P